DEPARTMENT OF LABOR

Employment and Training Administration

Community-Based Job Training Grants; Solicitation for Grant Applications (SGA) SGA/DFA-PY 07-01; Amendment Number 1

AGENCY: Employment and Training Administration (ETA), Labor.

ACTION: Amendment.

SUMMARY: The Employment and Training Administration published a document in the Federal Register of August 8, 2007, announcing the availability of funds and solicitation for grant applications for Community-Based Job Training Grants to support workforce training for high-growth/high-demand industries through the national system of community and technical colleges. This amendment will make changes to the August 8 document by removing the requirement that 50% of the grant funds must be spent on tuition in Section III Eligibility Information and Other Grant Specifications; updating the data required in the one- to three-page summary of projected outcomes in Section IV Application and Submission Information; replacing outcomes associated with the 50% requirement with new outcomes and clarifying and correcting the total number of points the section is worth in the Description of Outcomes section in Section V Application Review Information; and extending the closing date for the Solicitation to October 31, 2007.

FOR FURTHER INFORMATION CONTACT: Melissa Abdullah, Grants Management Specialist, Telephone (202) 693-3346.

Amendment

In the Federal Register of August 8, 2007, in FR Volume 72, Number 152, the solicitation is hereby amended with the following:

1. On page 44574, extend the closing date of this Solicitation to October 31, 2007.

2. On page 44581, in the middle column, Section III.C.2. Required Capacity Building and Training Activities, delete the following text:

In all applications, at least 50 percent of the proposed budget must be for tuition and related training costs for a substantive number of students enrolled in the grant training program. Related training costs include, but are not limited to, books, supplies, tools, and uniforms. Grantees are strongly encouraged to leverage other resources to cover the tuition costs for the students trained with grant funds to expand the number of individuals trained with the grant. Possible sources of leveraged resources for tuition include, but are not limited to, Pell Grants, student loans, and employer tuition reimbursement. Grantees may charge tuition and related training costs to students enrolled in the training program whose tuition is not covered by the grant; however, the leveraging of resources described above is strongly encouraged. Grantees must track and report performance outcomes on any individuals trained using grant dollars, either in whole or in part. Where grant dollars are combined with other leveraged resources to cover tuition for an individual being trained, that individual must be tracked for purposes of performance as well.

Added to this section is the following text:

A component of all grants must be direct training costs, which include, but are not limited to: Faculty costs, including salaries and fringe benefits; in-house training staff; support staff costs such as lab or teaching assistants; classroom space, including laboratories, mock-ups or other facilities used for training purposes; and books, materials, and supplies used in the training course, including specialized equipment used in the training course. Grantees are strongly encouraged to leverage other resources to cover the tuition costs for the students trained under the grant. Possible sources of leveraged resources for tuition include, but are not limited to, Pell Grants; Workforce Investment Act resources, including Individual Training Accounts; and employer tuition reimbursement. Applicants must also describe how tuition for students participating in the program will be covered, including tuition charged to students, funding made available through the workforce investment system, business paid training, or other sources.

For reference, direct training costs are the costs associated with the actual provision of a training course as opposed to the capacity building costs associated with the development of training capabilities or curriculums. Direct training costs do NOT include costs that support the college in general, such as fees to support student activities, the library, gym or recreation center, etc., which may be covered through some other mechanism, such as student fees. Indirect training costs may include the applicable share of the Institution's indirect costs (overhead) and library or other student activity fees associated with the operation of the Institution. Both direct and indirect training costs must be allowable costs under the applicable OMB circular. All direct and indirect training costs should be linked to a specific course or curriculum as specified in the proposal or the statement of work.

3. Additional references to the 50% requirement are deleted on: Page 44583 column 1 (Section IV.A), Page 44586 column 1 (Section V.A.3. Effective, Innovative Training and Capacity Building Strategies)

4. On page 44583, middle column, Section IV.A, in the one- to three-page listing of all projected outcomes list, delete:

• The number of individuals trained using grant dollars, including individuals trained as a result of leveraging of resources (e.g. training is paid in whole or in part through sources other than the grant or tuition, including Pell Grants, student loans, employer tuition reimbursement, and Workforce Investment Act training resources such as customized training, ITAs, or pilot CAAs);

• The number of individuals trained without use of grant dollars, such as those who pay tuition.

Replace this text with the following bullets:

• The number of individuals who will participate in training activities during the life of the grant. Participation in training activities includes individuals whose training activity is supported in whole or in part by direct training costs under the grant. This projection also includes individuals participating in the training activity who benefit from the products, services, and activities funded by the grant for capacity building, but whose training activity is not funded by the grant.

• The number of individuals who will complete training activities during the life of the grant regardless of the source of the funds paying for the training activities.

• The number of individuals to participate in training activities during the life of the grant whose participation is supported by the grant either through direct training costs or through tuition remission, scholarship, or other direct payment by the grant.

Applicants should note that they must include projections for numbers of students to be enrolled in and expected to complete training during the life of the grant. If awarded a grant, applicants MUST be able to track and report to ETA their success at meeting these projections on a quarterly basis regardless of whether the grant pays for the direct training of these individuals. This requirement is considered a condition of grant award.

5. Regarding training and capacity building plan outcomes and students trained using grant dollars:

a. On page 44586, in the right hand column, Part V. A. 4. b. Training, delete the following text: the number of individuals trained using grant dollars, including individuals trained as a result of leveraging of resources (e.g. training is paid in whole or in part through sources other than the grant or tuition, including Pell Grants, student loans, employer tuition reimbursement, and Workforce Investment Act training resources such as customized training, ITAs, or pilot CAAs); the number of individuals trained without use of grant dollars, such as those who pay tuition.

In place of the above deletion, add to Section V.A.4.b.: the number of individuals participating in training activities under the grant regardless of the source of the funds paying for the training activities.

b. On page 44586, in the middle column, Part V. 4. Outcomes, Benefits, and Impact, there is confusion as to the total number of points this section is worth because of formatting issues in the Solicitation. This amendment provides clarification that the total points available for this section are 30. The Solicitation is hereby amended to reflect that:

Part V.4. Outcomes, Benefits, and Impact is worth a total of 30 points.

Part V. 4. a. Description of Outcomes is worth a total of 20 points.

4.a.1. (formerly 4.b.) Training: 10 points.

4.a.2. (formerly 4.c) Capacity Building: 10 points.

Part V 4. b (formerly 4.d). Appropriateness of Outcomes is worth 10 points.

c. On page 44586, in the right hand column, Part V. A. 4. c. Capacity Building, add the following sentence: Please note, in their projected impact numbers, applicants must include a projection of the impact that the capacity building activities will have in the long-term (beyond the life of the grant) on the number of individuals trained by the college in the program areas enhanced by the grant.

6. On page 44581, in the right hand column, Section III.C.2. Required Capacity Building and Training Activities, and on page 44586, in the left hand column, Section V.A.3 Training and Capacity building Plan, the first bullet: Effective, Innovative Training and Capacity Building Strategies, add the following text:

Applicants should also describe how their capacity building activities will ensure there will be demand for the program developed under the grant. This description should include outreach and recruitment strategies for new students and trainees and include roles of the industry, workforce system, and education partners in the outreach and recruitment strategies.

Signed at Washington, DC, this 12th day of September 2007.
Eric Luetkenhaus,
Grant Officer, Employment & Training Administration.

[FR Doc. E7-18826 Filed 9-24-07; 8:45 am]

BILLING CODE 4510-FN-P